DEPARTMENT OF TRANSPORTATION

Federal Aviation Administration

14 CFR Part 39

[Docket No. FAA-2005-20849; Directorate Identifier 2005-NE-04-AD]

RIN 2120-AA64

Airworthiness Directives; Turbomeca Artouste III Series Turboshaft Engines

AGENCY: Federal Aviation Administration (FAA), DOT.

ACTION: Notice of proposed rulemaking (NPRM).

SUMMARY: The FAA proposes to adopt a new airworthiness directive (AD) for Turbomeca Artouste III series turboshaft engines. This proposed AD would require modification of the engine air intake assembly. This proposed AD results from a report of an in-flight shutdown and subsequent loss of control of the helicopter due to ice ingestion into the engine. We are proposing this AD to prevent ice ingestion into the engine, which could lead to an in-flight shutdown and subsequent loss of control of the helicopter.

DATES: We must receive any comments on this proposed AD by June 6, 2005.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Turbomeca, 40220 Tarnos, France; telephone +33 05 59 74 40 00, fax +33 05 59 74 45 15, for the service information identified in this proposed AD.

FOR FURTHER INFORMATION CONTACT: Christopher Spinney, Aerospace Engineer, Engine Certification Office, FAA, Engine and Propeller Directorate, 12 New England Executive Park, Burlington, MA 01803-5299; telephone (781) 238-7175, fax (781) 238-7199.

SUPPLEMENTARY INFORMATION:

Comments Invited

We invite you to send us any written relevant data, views, or arguments regarding this proposal. Send your comments to an address listed under ADDRESSES. Include “Docket No. FAA-2005-20849; Directorate Identifier 2005-NE-04-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received, and any final disposition in person at the DMS Docket Offices between 9 a.m. and 5 p.m., Monday through Friday, except Federal holidays. The Docket Office (telephone (800) 647-5227) is on the plaza level of the Department of Transportation Nassif Building at the street address stated in ADDRESSES. Comments will be available in the AD docket shortly after the DMS receives them.

Discussion

The Direction Generale de L'Aviation Civile (DGAC), which is the airworthiness authority for France, notified the FAA that an unsafe condition may exist on Turbomeca Artouste III B, B1, and D turboshaft engines. The DGAC advises that an Artouste III B1 turboshaft engine installed in an Aerospatiale (Eurocopter—France) SA-315B LAMA helicopter, ingested a block of ice, causing an in-flight shutdown and subsequent loss of control of the helicopter. Turbomeca believes the block of ice formed at the rear of the engine air intake assembly while the helicopter was not running and parked on sloping ground.

Relevant Service Information

We have reviewed and approved the technical contents of Turbomeca Artouste III Service Bulletin (SB) No 218 72 0104, dated December 24, 2003, that describes procedures for adding two additional water drain holes in the engine air intake assembly. The DGAC classified this SB as mandatory and issued AD F-2003-455, dated December 24, 2003, in order to assure the airworthiness of these Turbomeca Artouste III series engines in France.

FAA's Determination and Requirements of the Proposed AD

These Turbomeca Artouste III series turboshaft engines, manufactured in France, are type-certificated for operation in the United States under the provisions of section 21.29 of the Federal Aviation Regulations (14 CFR 21.29) and the applicable bilateral airworthiness agreement. In keeping with this bilateral airworthiness agreement, the DGAC kept us informed of the situation described above. We have examined the DGAC's findings, reviewed all available information, and determined that AD action is necessary for products of this type design that are certificated for operation in the United States. For this reason, we are proposing this AD, which would require adding two additional water drain holes to the engine air intake assembly. The proposed AD would require you to use the service information described previously to perform these actions.

Costs of Compliance

There are about 1,062 engines of the affected design in the worldwide fleet. We estimate that this proposed AD would affect 59 engines installed on helicopters of U.S. registry. We also estimate that it would take about two work hours per engine to perform the proposed actions, and that the average labor rate is $65 per work hour. Based on these figures, we estimate the total cost of the proposed AD to U.S. operators to be $7,670.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Turbomeca: Docket No. FAA-2005-20849; Directorate Identifier 2005-NE-04-AD.

Comments Due Date

(a) The Federal Aviation Administration (FAA) must receive comments on this airworthiness directive (AD) action by June 6, 2005.

Affected ADs

(b) None.

Applicability

(c) This AD applies to Turbomeca Artouste III B, B1, and D turboshaft engines. These engines are installed on, but not limited to, Aerospatiale (Eurocopter—France) SA-315B LAMA, and Alouette III SA3160, SA-316B, and SA-316C helicopters.

Unsafe Condition

(d) This AD results from a report of an in-flight shutdown and subsequent loss of control of the helicopter, due to ice ingestion into the engine. We are issuing this AD to prevent ice ingestion into the engine, which could lead to an in-flight shutdown and subsequent loss of control of the helicopter.

Compliance

(e) You are responsible for having the actions required by this AD performed within nine months after the effective date of this AD, unless the actions have already been done.

Addition of Water Drain Holes (Turbomeca Modification TU 171A)

(f) Within nine months from the effective date of this AD, drill an additional water drain hole in each engine air intake assembly half-cover, using paragraphs 2.B.(1) through 2.B.(5) of Turbomeca Artouste III Service Bulletin (SB) No. 218 72 0104, dated December 24, 2003.

Alternative Methods of Compliance

(g) The Manager, Engine Certification Office, has the authority to approve alternative methods of compliance for this AD if requested using the procedures found in 14 CFR 39.19.

Related Information

(h) DGAC airworthiness directive F-2003-455, dated December 24, 2003, also addresses the subject of this AD.

Issued in Burlington, Massachusetts, on March 30, 2005.
Diane Cook,
Acting Manager, Engine and Propeller Directorate, Aircraft Certification Service.

[FR Doc. 05-6774 Filed 4-5-05; 8:45 am]

BILLING CODE 4910-13-P